DEPARTMENT OF THE INTERIOR

National Park Service

[NPS-NER-SARA-30417; PS.SNELA0070.00.1]

Minor Boundary Revision at Saratoga National Historical Park

AGENCY: National Park Service, Interior.

ACTION: Notification of boundary revision.

SUMMARY: The boundary of Saratoga National Historical Park is modified to include four parcels of land totaling approximately 28.45 acres of land located in Saratoga County, New York, immediately adjoining the boundaries of Saratoga National Historical Park. Subsequent to the boundary revision, the National Park Service will acquire two properties from American Battlefield Trust (25.62 acres) and Open Space Institute Land Trust, Inc. (2.56 acres), nonprofit conservation organizations. The other two parcels (together, 0.27 acre) are federally owned.

DATES: The applicable date of this boundary revision is November 17, 2021.

ADDRESSES: The map depicting this boundary revision is available for inspection at the following locations: National Park Service, Interior Region 1, Land Resources Program Center, 115 John Street, 5th Floor, Lowell, MA 01852; and National Park Service, Department of the Interior, 1849 C Street NW, Washington, DC 20240.

FOR FURTHER INFORMATION CONTACT: Realty Officer Jennifer Cherry, National Park Service, Interior Region 1, Land Resources Program Center, 115 John Street, 5th Floor, Lowell, MA 01852, telephone (978) 970-5260.

SUPPLEMENTARY INFORMATION: Notice is hereby given that, pursuant to 54 U.S.C. 100506(c), the boundary of Saratoga National Historical Park is modified to include four adjoining tracts containing approximately 28.45 acres of land. The boundary revision is depicted on Map No. 374/165,366, dated October 2019.

54 U.S.C. 100506(c) provides that, after notifying the House Committee on Natural Resources and the Senate Committee on Energy and Natural Resources, the Secretary of the Interior is authorized to make this boundary revision upon publication of notice in the Federal Register. The Committees have been notified of this boundary revision. This boundary revision and subsequent acquisition will ensure preservation and protection of the park's historic and cultural landscape resources.

Deborah Conway,
Acting Regional Director, Interior Region 1.

[FR Doc. 2021-25044 Filed 11-16-21; 8:45 am]

BILLING CODE 4312-52-P